FEDERAL RETIREMENT THRIFT INVESTMENT BOARD

Sunshine Act; Notice of Meeting

Agenda

Federal Retirement Thrift Investment, Joint Board Member/ETAC Meeting, May 23, 2016, 8:30 a.m. (In-Person), 77 K Street NE., Training Room, Washington, DC 20002.

Open Session

1. Approval of the Minutes of the April 25, 2016 Board Member Meeting

2. Approval of the Minutes of the October 26, 2015 ETAC Meeting

3. Monthly Reports

(a) Participant Activity Report

(b) Investment Performance Report

(c) Legislative Report

4. Quarterly Reports

(d) Metrics

(e) Project Activity

5. ExPRESS Brief

6. Blended Retirement

7. Office of Communication and Education Report

Closed Session

8. Security

9. Personnel

Adjourn

CONTACT PERSON FOR MORE INFORMATION: Kimberly Weaver, Director, Office of External Affairs, (202) 942-1640.

Dated: May 13, 2016.
Megan Grumbine,
General Counsel, Federal Retirement Thrift Investment Board.

[FR Doc. 2016-11752 Filed 5-16-16; 11:15 am]

BILLING CODE 6760-01-P